NATIONAL SCIENCE FOUNDATION

Special Emphasis Panel in Human Resource Development; Notice of Meeting

In accordance with the Federal Advisory Committee Act (Pub. L. 92-463, as amended), the National Science Foundation announces the following meeting.

Name: Committee of Visitors for the Division of Human Resource Developments Program of Gender Equity (PGE) in SMET and Program for Persons with Disabilities (PPD)

Date and Time: Wednesday, May 3rd, 2000, 8:30 am—5:30 pm, Room 830 (Open); Thursday, May 4th, 2000, 8:30 am-1 pm, Room 830 (Open); Thursday, May 4th, 2000, 1 pm-3:30 pm (Closed); Thursday, May 4th, 2000, 3:30 pm-5:30 pm (Open).

Place: 4201 Wilson Boulevard, Rooms 830, Arlington, VA 22230.

Type of Meeting: Part Open (see agenda, below)

Contact Person: Drs. Lawrence Scadden, Margrete S. Klein and Ruta Sevo, Human Resource Development Division, Room 815, National Science Foundation, 4201 Wilson Boulevard, Arlington, VA 22230 Telephone: (703) 306-1637.

Purpose of Meeting: To carryout a Committee of Visitors (COV), review of the PGE and PPD programs over the past three fiscal years, including program evaluation, examination of decisions on proposals, reviewer comments, and to access other privileged information.

Agenda: Wednesday, May 3rd, 2000, 8:30am-5:30pm, Room 830 (Open) Thursday, May 4th, 2000, 8:30 am-1 pm, Room 830 (Open) Thursday, May 4th, 2000, 1 pm-3:30 pm, Closed review of privileged documents Thursday, May 4th, 2000, 3:30 pm-5:30 pm, Open discussions on the impact of projects funded and an evaluation of the programs. Session is open to meet requirements of Government Performance and Results Act (GPRA).

Reason for Closing: During the closed session, the COV will be reviewing proposal actions that will include privileged intellectual property and personal information that could harm individuals if they were disclosed. Such deliberation are exempt under 5 U.S.C. 552b(c), (4) and (6) of the Government in the Sunshine Act.

Dated: April 10, 2000.
Karen J. York,
Committee Management Officer.

[FR Doc. 00-9202 Filed 4-12-00; 8:45 am]

BILLING CODE 7555-01-M